INTERNATIONAL TRADE COMMISSION

[Investigation No. 337-TA-502]

In the Matter of Certain Automobile Tail Light Lenses and Products Incorporating Same; Notice of a Commission Determination Not To Review an Initial Determination Terminating the Investigation on the Basis of a Settlement Agreement

AGENCY: U.S. International Trade Commission.

ACTION: Notice.

SUMMARY: Notice is hereby given that the U.S. International Trade Commission has determined not to review an initial determination (“ID”) of the presiding administrative law judge (“ALJ”) granting the joint motion of complainants and respondents to terminate the above-captioned investigation on the basis of a settlement agreement.

FOR FURTHER INFORMATION CONTACT: Michael K. Haldenstein, Esq., Office of the General Counsel, U.S. International Trade Commission, 500 E Street, SW., Washington, DC 20436, telephone 202-205-3115. Copies of the public version of the ID and all nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: The Commission instituted the above-referenced investigation under section 337 of the Tariff Act of 1930, 19 U.S.C. 1337, as amended, on January 7, 2004, based on a complaint filed by Jens E. Sorensen of Rancho Santa Fe, California and Jens E. Sorensen, as Trustee of the Sorensen Research and Development Trust. 69 FR 937. The complaint alleged infringement of U.S. Patent No. 4,935,184 (“the '184 patent”), in the importation, sale for importation, and sale within the United States after importation of automobile tail light covers made in accordance with claims 1, 6, 8, and 10 of the '184 patent. The Commission named Daimler-Chrysler AG of Stuttgart, Baden-Wuerttemberg, Germany and Mercedes-Benz USA, LLC of Montvale, New Jersey as respondents.

On July 9, 2004, the presiding ALJ issued an ID granting respondents' motion for summary determination that their accused processes for making automobile tail light covers did not infringe any of the asserted claims of the '184 patent. Having found that the accused products did not infringe, he terminated the investigation. The Commission determined not to review the ID, and it thus became the Commission's final determination.

The complainants appealed the Commission's determination to the U.S. Court of Appeals for the Federal Circuit. The Court disagreed with the Commission's claim construction, reversed the Commission's finding of no infringement, and remanded the investigation to the Commission so that the investigation could continue. See Sorensen et al. v. International Trade Commission, 427 F.3d 1375 (Fed. Cir. 2005). On January 19, 2006, the Commission issued an order remanding the subject investigation to the ALJ for proceedings in accordance with the Federal Circuit's opinion.

On March 2, 2006, the complainants and respondents filed a joint motion for termination of the investigation based upon a settlement agreement. On March 9, 2006, the Commission investigative attorney filed a response in support of the motion. No party opposed the motion.

On March 29, 2006, the ALJ issued the subject ID which terminates the investigation on the basis of a settlement agreement. The ALJ indicates in the ID that the settlement agreement complies with Commission rule 210.21(b) and that settlement will not prejudice the public interest.

No party petitioned for review of the ID pursuant to 19 CFR 210.43(a), and the Commission found no basis for ordering a review on its own initiative pursuant to 19 CFR 210.44. The ID thus has become the determination of the Commission pursuant to 19 CFR 210.42(h)(3).

This action is taken under the authority of section 337 of the Tariff Act of 1930, as amended, 19 U.S.C. 1337, and Commission rule 210.42, 19 CFR 210.42.

By order of the Commission.
Issued: April 17, 2006.
Marilyn R. Abbott,
Secretary to the Commission.

[FR Doc. E6-5950 Filed 4-19-06; 8:45 am]

BILLING CODE 7020-02-P